DEPARTMENT OF THE INTERIOR

Bureau of Land Management

[WY-040-1320-EL, WYW154595]

Federal Coal, Environmental Document and Notice of Scoping

AGENCY: Bureau of Land Management, Interior.

ACTION: Notice of intent to prepare an environmental document on one lease application received for one Federal coal tract in the decertified Green River/Hamms Fork Coal Production Region, Wyoming, and Notice of Scoping.

The type of environmental document (Environmental Assessment or Environmental Impact Statement), will be determined after the scoping process is completed. If analysis shows that a plan amendment is necessary, the Green River Resource Management Plan (RMP) will be amended.

SUMMARY: BLM received a competitive coal lease application on September 28, 2001, from Bridger Coal Company. The tract applied for is approximately 7,054.34 acres in size, and contains approximately 110 million tons of in-place coal reserves. The tract is adjacent to the Bridger Mine in Sweetwater County, Wyoming. The tract, which is referred to as the Ten Mile Rim Lease by Application (LBA) Tract, was assigned case number WYW154595.

The tract was applied for as a tract LBA under the provisions of 43 CFR 3425.1. As part of the LBA process, BLM will prepare an environmental analysis in accordance with the requirements of the National Environmental Policy Act, develop possible stipulations regarding mining operations, determine the fair market value (FMV) of the Federal coal included in the tract, and evaluate the maximum economic recovery (MER) of the coal in the tract. The purpose of the public scoping period and public scoping meeting is to allow interested parties to submit comments and/or relevant information that BLM should consider in preparing an environmental analysis and in evaluating the FMV and MER of the Federal coal included in this coal lease application.

Dates: Scoping comments must be received by 30 days after publication of this notice in order to be fully considered in the draft environmental analysis. A public scoping meeting at the BLM Rock Springs Field Office, 280 Highway 191 North, Rock Springs, Wyoming will be announced in local media.

If you have concerns or issues that you believe the BLM should address in processing this LBA proposal, you can express them verbally at the scoping meeting; or you can mail, e-mail or fax written comments to BLM at the addresses given below.

ADDRESSES: Please address questions, comments or concerns to the BLM Rock Springs Field Office, Attn: Teri Deakins, 280 Highway 191 North, Rock Springs, Wyoming 82901, fax them to 307-352-0329, or email them to the attention of Teri Deakins at teri_deakins@blm.gov. Please refer to Ten Mile Rim Lease in the subject field.

FOR FURTHER INFORMATION CONTACT: Teri Deakins or Ted Murphy at the above address, or phone: 307-352-0256.

SUPPLEMENTARY INFORMATION: On September 28, 2001, Bridger Coal Company filed a coal lease application for the following lands adjacent to the Bridger Mine in Sweetwater County, Wyoming:

Ten Mile Rim—WYW154595

T. 21 N., R. 100 W., 6th P.M., Wyoming

Section 2: Lots 5-8, S2N2, S2;

Section 4: Lots 5-8, S2N2, S2;

Section 6: Lots 8-14, S2NE, SENW, E2SW, SE;

Section 8: All;

Section 10: All;

Section 12: W2;

Section 14: All.

T. 22 N., R. 100 W., 6th P.M., Wyoming

Section 30: Lots 5-8, E2W2, E2;

Section 32: All;

Section 34: All;

T. 22 N., R. 101 W., 6th P.M., Wyoming

Section 26: Lots 1-16;

Section 34: Lots 1, 2, 6, 7, 8, 13, NESE, SWSE.

Containing 7,054.34 acres, more or less.

The tract includes an estimated 110 million tons of in place coal reserves. According to the application the coal would be required to provide fuel to the nearby Jim Bridger Power Plant for an additional 15 to 20 years. Land ownership in the area is checkerboard, where BLM manages for the Federal government approximately every even numbered section.

As part of the coal leasing process, BLM will evaluate the tract configuration and may decide to add or subtract Federal coal to avoid bypassing coal or to increase estimated FMV.

The Bridger Mine, which is adjacent to the Ten Mile Rim LBA Tract, has an approved mining and reclamation plan from the Land Quality Division of the Wyoming Department of Environment Quality (DEQ) and an approved air quality permit from the Air Quality Division of the Wyoming DEQ.

The Office of Surface Mining Reclamation and Enforcement (OSM) will be a cooperating agency in the preparation of the environmental document. If the tract is leased as a tract then the lease must be incorporated into the existing Jim Bridger Mining and Reclamation Plan and the Secretary of the Interior must approve the revision to the Mineral Leasing Act (MLA) mining plan before the Federal coal in the tract can be mined. OSM is the Federal agency that would be responsible for recommending approval, approval with conditions, or disapproval of the revised MLA mining plan to the office of the Secretary of the Interior if the tract were leased.

Tentative issues have been identified as occurring in the area of the Ten Mile Rim LBA Tract or during the processing of previous applications to lease Federal coal in the State of Wyoming. These include:

1. The need for resolution of conflicts between existing and proposed oil and gas development, including coal bed methane, and coal mining on the tracts proposed for leasing;

2. Potential impacts on air and water quality, and the Great Divide Basin Watershed.

3. Subsidence.

4. Potential impacts to surface resources including crucial winter range, raptor nesting, sage grouse, and listed, proposed for listing, candidate, and BLM-sensitive plant and animal species.

Comments, including names and street addresses of respondents, will be available for public review at the address listed above during regular business hours (7:45 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Preparation of the environmental analysis may include actions that upon review could require an amendment to the Green River RMP. Should actions be found that are not in conformance with the Green River RMP, a planning review of existing land-use decisions would be conducted at that time.

Dated: November 16, 2001.
Darla D. Pindell,
Acting Chief, Branch of Solid Minerals.

[FR Doc. 01-31407 Filed 12-20-01; 8:45 am]

BILLING CODE 4310-22-P